NUCLEAR REGULATORY COMMISSION

[NRC-2009-0408]

Exemption From the Specific Import License Requirements

1.0 Request/Action

US Ecology Idaho (USEI), a subsidiary of American Ecology, operates a hazardous waste and low-activity radioactive disposal facility near Grand View, Idaho. By letter dated March 19, 2009 (Agency Documents Access Management System [ADAMS] Accession No. ML091600258), USEI requested an exemption from the requirements in 10 CFR Part 110, “Export and Import of Nuclear Equipment and Material,” for a specific license to import waste from Canada.

Pursuant to 10 CFR 110.10, the Commission may, upon application by any interested person or upon its own initiative, grant exemptions for the requirements for a specific license in 10 CFR Part 110, when the import is (1) authorized by law; (2) is not inimical to the common defense and security of the United States; and (3) will not constitute an unreasonable risk to the public health and safety.

2.0 Background

USEI requested an exemption from the requirements in 10 CFR 110.27 for a specific license to import and dispose of approximately 2,500 cubic meters of soil containing 15% concrete and metal debris contaminated with low concentrations of naturally occurring radium-226 and uranium-238, which will be generated during remediation and redevelopment of a property located in Toronto, Canada. In its March 19, 2009, letter, USEI stated that this material meets the “unimportant quantity of source material” criteria founded in 10 CFR 40.13(a). As part of their request, USEI included a safety assessment of the shipment from the Toronto property to the USEI disposal facility in Idaho and the resulting potential doses to members of the public during transport and disposal.

As a matter of policy, the U.S. Nuclear Regulatory Commission (NRC) reviews the safety implications of disposing of unimportant quantities of material at sites other than Atomic Energy Act-licensed disposal facilities. USEI is permitted by the Idaho Department of Environmental Quality (IDEQ) to operate a Resource Conservation and Recovery Act (RCRA) Subtitle C facility located near Grand View, Idaho and is not an NRC licensee. Consistent with Commission policy (Federal Register: August 28, 2002 [Volume 67, Number 167], Proposed Rules, Pages 55175-55179) such a request for transfer would normally be approved if the dose to a member of the public is unlikely to exceed 0.25 mSv/yr (25 mrem/yr).

3.0 Discussion

USEI supplied information on the source term of the waste and a proposed scenario to evaluate different possible exposures for members of the public. These scenarios include dose to the transportation workers, USEI workers, and post-closure dose to the general public. The State of Idaho RCRA permit allows the disposal of exempted radioactive material including uranium as either naturally occurring radioactive material or unimportant quantities of source material provided they meet the requirements outlined in 10 CFR 40.13(a) and can demonstrate that no individual would receive a dose in excess of 0.15 mSv/yr (15 mrem/yr) for a period of 100 years after closure of the facility.

Based on sampling results provided, the NRC confirmed that this waste material qualifies as “unimportant quantities of source material” (i.e., containing less than 0.05 weight percent of source material) under 10 CFR 40.13(a). As indicated in the Safety Evaluation Report (ML092380115), the staff verified that the expected dose to a member of the public due to transfer and disposal of the Toronto waste will be well below 25 mrem/yr.

4.0 Conclusion

Accordingly, the Commission has determined that, pursuant to 10 CFR 110.10(a), an exemption from the requirements of 10 CFR 110.27 is authorized by law, will not present an undue risk to the public health and safety, and is consistent with the common defense and security. Therefore, the Commission hereby grants USEI an exemption from the requirement of 10 CFR 110.27 for a specific license to import the approximately 2,500 cubic meters of contaminated soil.

This exemption is effective upon issuance.

For The Nuclear Regulatory Commission.
Dated this 9th day of September 2009 at Rockville, Maryland.
Scott W. Moore,
Deputy Director, Office of International Programs.

[FR Doc. E9-22559 Filed 9-17-09; 8:45 am]

BILLING CODE 7590-01-P